DEPARTMENT OF ENERGY

Federal Energy Regulatory Commission

[Docket No. CP07-109-000]

National Fuel Gas Supply Corporation; Notice of Application

April 5, 2007.

Take notice that on March 19, 2007, National Fuel Gas Supply Corporation (National Fuel), 6363 Main Street, Williamsville, New York 14221, filed in Docket No. CP07-109-000 an application pursuant to section 7(b) of the Natural Gas Act (NGA) for permission and approval to abandon one (1) 150 horsepower compressor unit (Unit #5) at the Lamont Compressor Station (Lamont), along with appurtenances, located in Elk County, Pennsylvania, all as more fully set forth in the application.

The application is on file with Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov and follow the instructions or call toll-free at (866) 208-3676, or for TTY, contact (202) 502-8659.

Any questions concerning this request may be directed to David W. Reitz, Deputy General Counsel for National Fuel, 6363 Main Street, Williamsville, New York 14221, or call (716) 857-7949.

National Fuel proposes to retire and remove Unit #5 and its appurtenant facilities, which include the suction and discharge lines, control and exhaust equipment, the integral engine-compressor unit itself and other support equipment. National Fuel avers that the concrete foundation would be left in place and that all aboveground gas and service piping would be disconnected and removed back to the station gas headers.

National Fuel states that the unit is obsolete and has become burdensome to maintain and operate. National Fuel contends that parts to repair the unit are not readily available, and therefore the unit is very expensive to maintain. National Fuel maintains that the remaining units at Lamont would provide the necessary compression to meet National Fuel's current service obligations.

National Fuel asserts that no interruption, reduction, or termination of natural gas service, to any of its shippers, would occur as a result of the proposed abandonment.

Pursuant to Section 157.9 of the Commission's rules, 18 CFR 157.9, within 90 days of this Notice the Commission staff will either: Complete its environmental assessment (EA) and place it into the Commission's public record (eLibrary) for this proceeding, or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronically filings of comments, protests and interventions via the Internet in lieu of paper. See, 18 CFR 385.2001(a)(1)(iii) and the instructions on the Commission's Web site http://www.ferc.gov under the “e-Filing” link.

Comment Date: April 26, 2007.

Philis J. Posey,
Acting Secretary.

[FR Doc. E7-6794 Filed 4-10-07; 8:45 am]

BILLING CODE 6717-01-P